SMALL BUSINESS ADMINISTRATION

[Declaration of Disaster #3531]

State of Texas (Amendment #4)

In accordance with a notice received from the Department of Homeland Security—Federal Emergency Management Agency, effective August 4, 2003, the above numbered declaration is hereby amended to include Aransas County as a disaster area due to damages caused by Hurricane Claudette occurring on July 15, 2003 and continuing through July 28, 2003.

All other counties contiguous to the above named primary county have been previously declared. All other information remains the same, i.e., the deadline for filing applications for physical damage is September 16, 2003, and for economic injury the deadline is April 19, 2004.

(Catalog of Federal Domestic Assistance Program Nos. 59002 and 59008).

Dated: August 6, 2003.
Cheri L. Cannon,
Acting Associate Administrator for Disaster Assistance.

[FR Doc. 03-20517 Filed 8-11-03; 8:45 am]

BILLING CODE 8025-01-P